DEPARTMENT OF TRANSPORTATION

Federal Aviation Administration

14 CFR Part 39

[Docket No. FAA-2010-0434; Directorate Identifier 2009-NM-221-AD]

RIN 2120-AA64

Airworthiness Directives; BAE Systems (Operations) Limited Model BAe 146-100A and -200A Series Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

The operation of the airbrake lever in the “airbrakes out” to “lift spoiler” range has been the subject of two occurrence reports. The lift spoilers on the BAe 146 and Avro 146-RJ aeroplanes have been designed to deploy on landing to provide aerodynamic braking and to dump lift to ensure that the wheel brakes can provide the necessary speed reduction.

* * * * *

The effects of deceleration and landing inertia loads can cause uncommanded movement of the airbrake selector lever from the “lift spoiler” position to the “airbrakes out” position, causing the lift spoilers to retract during the landing roll. This condition, if not corrected, would increase the landing distance, possibly resulting in a runway overrun and consequent injury to aeroplane occupants.

* * * * *

The proposed AD would require actions that are intended to address the unsafe condition described in the MCAI.

DATES: We must receive comments on this proposed AD by June 14, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

For service information identified in this proposed AD, contact BAE Systems Regional Aircraft, 13850 McLearen Road, Herndon, Virginia 20171; telephone 703-736-1080; e-mail raebusiness@baesystems.com; Internet http://www.baesystems.com/Businesses/RegionalAircraft/index.htm. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Comments Invited

We invite you to send any written relevant data, views, or arguments about this proposed AD. Send your comments to an address listed under the ADDRESSES section. Include “Docket No. FAA-2010-0434; Directorate Identifier 2009-NM-221-AD” at the beginning of your comments. We specifically invite comments on the overall regulatory, economic, environmental, and energy aspects of this proposed AD. We will consider all comments received by the closing date and may amend this proposed AD based on those comments.

We have lengthened the 30-day comment period for proposed ADs that address MCAI originated by aviation authorities of other countries to provide adequate time for interested parties to submit comments. The comment period for these proposed ADs is now typically 45 days, which is consistent with the comment period for domestic transport ADs.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2009-0206, dated September 30, 2009 (referred to after this as “the MCAI”), to correct an unsafe condition for the specified products. The MCAI states:

The operation of the airbrake lever in the “airbrakes out” to “lift spoiler” range has been the subject of two occurrence reports. The lift spoilers on the BAe 146 and Avro 146-RJ aeroplanes have been designed to deploy on landing to provide aerodynamic braking and to dump lift to ensure that the wheel brakes can provide the necessary speed reduction.

A review of the changing operational profile of the aeroplane type concluded that its proven short field performance has increasingly been exploited in recent years by a number of operators worldwide. Frequently, these short field operations are conducted from airports that are located in mountainous terrain or in close proximity to bodies of water, leaving fewer margins for error, e.g. landing long or at (too) high speed.

The effects of deceleration and landing inertia loads can cause uncommanded movement of the airbrake selector lever from the “lift spoiler” position to the “airbrakes out” position, causing the lift spoilers to retract during the landing roll. This condition, if not corrected, would increase the landing distance, possibly resulting in a runway overrun and consequent injury to aeroplane occupants.

On certain BAe 146 aeroplanes, without modifications HCM00889A and B or modifications HCM00889A and C incorporated, negligible force is required to move the airbrake lever back to the “airbrakes out” position. From 1988 onwards, modifications were introduced on the production line to incorporate a modified friction baulking device such that a force of 12 lbs must be applied to move the airbrake lever from the “lift spoiler” position to the “airbrakes out” position. These modifications were also made available as an optional in-service retrofit.

For the reasons described above, this AD requires the modification of the airbrake lever detent mechanism.

You may obtain further information by examining the MCAI in the AD docket.

Relevant Service Information

British Aerospace has issued 146 Modification Service Bulletin 27-73-00889A&B, Revision 4, dated June 15, 1990. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 1 product of U.S. registry. We also estimate that it would take about 11 work-hours per product to comply with the basic requirements of this proposed AD. The average labor rate is $85 per work-hour. Required parts would cost about $7,000 per product. Where the service information lists required parts costs that are covered under warranty, we have assumed that there will be no charge for these costs. As we do not control warranty coverage for affected parties, some parties may incur costs higher than estimated here. Based on these figures, we estimate the cost of the proposed AD on U.S. operators to be $7,935 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

BAE Systems (Operations) Limited: Docket No. FAA-2010-0434; Directorate Identifier 2009-NM-221-AD.

Comments Due Date

(a) We must receive comments by June 14, 2010.

Affected ADs

(b) None.

Applicability

(c) This AD applies to BAE Systems (Operations) Limited Model BAe 146-100A and -200A series airplanes, certificated in any category, serial numbers as listed in British Aerospace 146 Modification Service Bulletin 27-73-00889A&B, Revision 4, dated June 15, 1990.

Subject

(d) Air Transport Association (ATA) of America Code 27: Flight Controls.

Reason

(e) The mandatory continuing airworthiness information (MCAI) states:

The operation of the airbrake lever in the “airbrakes out” to “lift spoiler” range has been the subject of two occurrence reports. The lift spoilers on the BAe 146 and Avro 146-RJ aeroplanes have been designed to deploy on landing to provide aerodynamic braking and to dump lift to ensure that the wheel brakes can provide the necessary speed reduction.

A review of the changing operational profile of the aeroplane type concluded that its proven short field performance has increasingly been exploited in recent years by a number of operators worldwide. Frequently, these short field operations are conducted from airports that are located in mountainous terrain or in close proximity to bodies of water, leaving fewer margins for error, e.g. landing long or at (too) high speed.

The effects of deceleration and landing inertia loads can cause uncommanded movement of the airbrake selector lever from the “lift spoiler” position to the “airbrakes out” position, causing the lift spoilers to retract during the landing roll. This condition, if not corrected, would increase the landing distance, possibly resulting in a runway overrun and consequent injury to aeroplane occupants.

On certain BAe 146 aeroplanes, without modifications HCM00889A and B or modifications HCM00889A and C incorporated, negligible force is required to move the airbrake lever back to the “airbrakes out” position. From 1988 onwards, modifications were introduced on the production line to incorporate a modified friction baulking device such that a force of 12 lbs must be applied to move the airbrake lever from the “lift spoiler” position to the “airbrakes out” position. These modifications were also made available as an optional in-service retrofit.

For the reasons described above, this AD requires the modification of the airbrake lever detent mechanism.

Compliance

(f) You are responsible for having the actions required by this AD performed within the compliance times specified, unless the actions have already been done.

Actions

(g) Do the following actions.

(1) Within 12 months after the effective date of this AD, modify the airbrake lever detent mechanism, in accordance with the Accomplishment Instructions of British Aerospace 146 Modification Service Bulletin 27-73-00889A&B, Revision 4, dated June 15, 1990.

(2) Modifying the airbrake lever detent mechanism is also acceptable for compliance with paragraph (g)(1) of this AD, if done before the effective date of this AD in accordance with the Accomplishment Instructions of British Aerospace 146 Modification Service Bulletin 27-73-00889A&B, Revision 3, dated August 1, 1989.

FAA AD Differences

Note 1: This AD differs from the MCAI and/or service information as follows: While European Aviation Safety Agency (EASA) AD 2009-0206, dated September 30, 2009, considers Revision 0, 1, or 2 of British Aerospace 146 Modification Service Bulletin 27-73-00889A&B as an acceptable method of compliance, this AD does not. However, operators may request for approval of an alternative method of compliance in accordance with the procedures specified in paragraph (h)(1) of this AD.

Other FAA AD Provisions

(h) The following provisions also apply to this AD:

(1) Alternative Methods of Compliance (AMOCs): The Manager, International Branch, ANM-116, Transport Airplane Directorate, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI EASA Airworthiness Directive 2009-0206, dated September 30, 2009; and British Aerospace 146 Modification Service Bulletin 27-73-00889A&B, Revision 4, dated June 15, 1990; for related information.

Issued in Renton, Washington, on April 23, 2010.
Ali Bahrami,
Manager, Transport Airplane Directorate, Aircraft Certification Service.

[FR Doc. 2010-10111 Filed 4-29-10; 8:45 am]

BILLING CODE 4910-13-P